DEPARTMENT OF HEALTH AND HUMAN SERVICES

Administration for Children and Families

Submission for Office of Management and Budget Review; Operation Allies Welcome Afghan Supplement Survey (New Collection)

AGENCY: Office of Refugee Resettlement, Administration for Children and Families, Department of Health and Human Services.

ACTION: Request for public comments.

SUMMARY: The Office of Refugee Resettlement (ORR), Administration for Children and Families (ACF), U.S. Department of Health and Human Services is proposing to collect data for a new Operation Allies Welcome (OAW) Afghan Supplement Survey.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: Under the Afghanistan Supplemental Appropriations Act, 2022, and Additional Afghanistan Supplemental Appropriations Act, 2022, Congress authorized ORR to provide resettlement assistance and other benefits available to refugees to specific Afghan populations in response to their emergency evacuation and resettlement. The OAW Afghan Supplement Survey is a sample survey of Afghan households entering the United States under OAW, collecting both household- and individual-level information. It will generate nationally representative data on OAW Afghans' well-being, integration outcomes, and progress towards self-sufficiency. Data collected will help ORR and service providers better understand the impact of services and on-going service needs of OAW Afghan populations.

Respondents: OAW Afghan populations.

Annual Burden Estimates
Instrument | Total number of respondents | Total number of responses per respondent | Average burden hours per response | Total/annual burden hours *
OAW Afghan Supplement Survey Contact Update Requests | 1,100 | 1 | 0.05 | 55
OAW Afghan Supplement Survey | 1,100 | 1 | 0.92 | 1,012
* Survey is one-time and will be completed within the 1st year.

Estimated Total Annual Burden Hours: 1,067.

Authority

Division C, Title III, Public Law 117-43, 135 Stat. 374

Division B, Title III, Public Law 117-70, 1102 Stat. 4

Mary B. Jones,
ACF/OPRE Certifying Officer.

[FR Doc. 2023-11377 Filed 5-26-23; 8:45 am]

BILLING CODE 4184-45-P